DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: U.S. Patent No. 8,467,056: VARIABLE ANGLE, FIBER OPTIC COUPLED, LIGHT SCATTERING APPARATUS, Issued on June 18, 2013//U.S. Patent Number 8,477,308: POLARIZED, SPECULAR REFLECTOMETER APPARATUS, Issued on July 2, 2013.

ADDRESSES: Requests for copies of the inventions cited should be directed to Naval Air Warfare Center Weapons Division, Code 4L4000D, 1900 N. Knox Road Stop 6312, China Lake, CA 93555-6106 and must include the patent number.

FOR FURTHER INFORMATION CONTACT: Michael D. Seltzer, Ph.D., Head, Technology Transfer Office, Naval Air Warfare Center Weapons Division, Code 4L4000D, 1900 N. Knox Road Stop 6312, China Lake, CA 93555-6106, telephone 760-939-1074, FAX 760-939-1210, Email: michael.seltzer@navy.mil.

Authority: 35 U.S.C. 207, 37 CFR Part 404.

Dated: July 23, 2013.
C. K. Chiappetta,
Lieutenant Commander, Office of the Judge Advocate General, U.S. Navy, Federal Register Liaison Officer.

[FR Doc. 2013-18644 Filed 8-1-13; 8:45 am]

BILLING CODE 3810-FF-P